DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, San Diego Freeway (I-405) Improvement Project from State Route (SR) 73 to Interstate 605 (I-605) in Orange County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 23, 2020. If the Federal law that authorizes judicial review of a claim provides a time period of less than 150 days for filing such claim, then that shorter time period still applies.

FOR FURTHER INFORMATION CONTACT: For Caltrans: Smita Deshpande, Branch Chief, California Department of Transportation District 12, Division of Environmental Analysis, 1750 East 4th Street, Santa Ana, California 92705, during normal business hours from 8:00 a.m. to 5:00 p.m., Telephone number (657) 328-6151, email: smita.deshpande@dot.ca.gov. For FHWA, contact David Tedrick at (916) 498-5024 or email david.tedrick@dot.gov.

SUPPLEMENTARY INFORMATION: Effective July 1, 2007, FHWA assigned, and the Caltrans assumed, environmental responsibilities for this project pursuant to 23 U.S.C. 327. Notice is hereby given that Caltrans has taken final agency action subject to 23 U.S.C. 139(l)(1) by issuing licenses, permits, and approvals or by reviewing previously-issued approvals for the following highway project in the State of California: Interstate 405 Improvements Project (“project”). The project will improve 16 miles of I-405 between the SR-73 freeway and I-605 by adding one general purpose lane in each direction between Euclid Street and I-605 and one tolled Express Lane in each direction between SR-73 and SR-22, to be managed jointly with the existing HOV Lane as tolled Express Facility with two lanes in each direction. A re-evaluation (23 CFR 771.129, and also known as a revalidation) was performed and approved on April 9, 2020. The conclusion of the re-evaluation was the Final Environmental Impact Statement and the Record of Decision for the project, issued on March 26, 2015 and May 15, 2020, respectively, remain valid and no Supplemental Environmental Impact Statement was warranted. The re-evaluation reviewed minor changes to the planned drainage system and associated features proximate to the Northbound I-405 off-ramp to Eastbound SR-22/Valley View in the City of Westminster, California. The pre-existing drainage system, which is a Caltrans facility entirely within the Caltrans right of way, was a road-side ditch or trapezoidal drainage channel adjacent to the right of way that ran parallel to the freeway and eventually drained into the Bolsa Chica Channel. The project design changes involve modifications to increase the capacity of water flowing from the adjacent watershed into Drainage System 828. The actions by the Federal agencies, and the laws under which such actions were taken, are described in the re-evaluation approved on April 9, 2020. The re-evaluation is available at the addresses provided above.

This notice applies to all Federal agency decisions as of the issuance date of this notice and all laws under which such actions were taken, including but not limited to:

1. General: National Environmental Policy Act (NEPA) (42 U.S.C. 4321-4351)

2. Air: Clean Air Act (42 U.S.C. 7401-7671(q))

3. Wildlife: Migratory Bird Treaty Act (16 U.S.C. 703-712); Federal Endangered Species Act of 1973 (16 U.S.C. 1531-1543)

4. Historic and Cultural Resources: Section 106 of the National Historic Preservation Act of 1966, as amended (16 U.S.C. 470(f) et seq.);

5. Wetland and Water Resources: Clean Water Act (33 U.S.C. 1251-1377) (Section 404, Section 401, Section 319);

6. Land: Department of Transportation Act of 1966, (49 U.S.C. 303) (Section 4(f))

7. Executive Orders: E.O. 11990—Protection of Wetlands; E.O. 11988—Floodplain Management; E.O. 12898—Federal Actions to Address Environmental Justice in Minority and Low Income Populations; E.O. 11593—Protection and Enhancement of Cultural Resources; E.O. 13112—Invasive Species.

(Catalog of Federal Domestic Assistance Program Number 20.205, Highway Planning and Construction. The regulations implementing Executive Order 12372 regarding intergovernmental consultation on Federal programs and activities apply to this program.)

Authority: 23 U.S.C. 139(l)(1).

Issued on: June 18, 2020.
Rodney Whitfield,
Director, Financial Services, Federal Highway Administration, California Division.

[FR Doc. 2020-13851 Filed 6-25-20; 8:45 am]

BILLING CODE 4910-RY-P